DEPARTMENT OF HEALTH AND HUMAN SERVICES

Centers for Disease Control and Prevention

[30Day-51-03]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Automated Management Information System (MIS) for Diabetes Control Programs (OMB Control No. 0920-0479)—Extension—National Center for Chronic Disease Prevention and Health Promotion (NCCDPHP), Centers for Disease Control and Prevention (CDC). CDC has implemented a Management Information System (MIS) and federally sponsored data collection requirement from all CDC funded diabetes control programs. Diabetes is the sixth leading cause of death in the United States contributing to more than 200,000 deaths each year. An estimated 11.1 million people in the United States have been diagnosed with diabetes and an estimated 5.9 million people have undiagnosed diabetes. CDC's Division of Diabetes Translation (DDT) provides funding to health departments of States and territories to develop, implement, and evaluate systems-based Diabetes Control Programs (DCPs). DCPs are population-based, public health programs that design, implement and evaluate public health prevention and control strategies that improve access to and quality of care for all, and reach communities most impacted by the burden of diabetes (e.g., racial/ethnic populations, the elderly, rural dwellers and the economically disadvantaged). Support for these programs is a cornerstone of the DDT's strategy for reducing the burden of diabetes throughout the nation. The Diabetes Control Program is authorized under sections 301 and 317(k) of the Public Health Service Act (42 U.S.C. 241 and 247b(k)).

In accordance with the original OMB approval (July 20, 2002), this extension will continue to expand and enhance the technical reporting capacity of the MIS. The MIS is a web-based, password access protected repository/technical reporting system that replaced an archaic paper reporting system. The MIS allows the accurate, uniform, and complete collection of diabetes program progress information using the Internet. The MIS has improved upon the old data collection system by:

• Improving accountability;

• Shortening the information cycle;

• Eliminating non-standard reporting;

• Minimizing unnecessary duplication of data collection and entry;

• Reducing the reporting burden on small state organizations;

• Using plain, coherent, and unambiguous terminology that is understandable to respondents;

• Implementing a consistent system for progress reporting and record keeping processes;

• Identifying the retention periods for record keeping requirements;

• Utilizing modern information technology for data collection and transfer;

• Significantly reducing the amount of paper reports that diabetes control programs are required to submit.

The MIS has allowed CDC to more rapidly respond to outside inquiries concerning a specific diabetes control activity occurring in the state diabetes control programs. The data collection requirement has formalized the format and contents of diabetes data reported from the DCPs and provides an electronic means for efficient collection and transmission to the CDC headquarters.

The MIS has facilitated the staff's ability at CDC to fulfill its obligations under the cooperative agreements; to monitor, evaluate, and compare individual programs; and to assess and report aggregate information regarding the overall effectiveness of the DCP program. It has also supported DDT's broader mission of reducing the burden of diabetes by enabling DDT staff to more effectively identify the strengths and weaknesses of individual DCPs and to disseminate information related to successful public health interventions implemented by these organizations to prevent and control diabetes. Implementation of the MIS has provided for efficient collection of state-level diabetes program data. The annual burden for this data collection is 236 hours.

Respondents | No. of respondents | No. of responses/respondent | Average burden/response (in hours)
State Program Control Officers | 59 | 1 | 4

Dated: July 2, 2003.
Thomas A. Bartenfeld,
Acting Associate Director for Policy, Planning and Evaluation, Centers for Disease Control and Prevention.

[FR Doc. 03-17302 Filed 7-8-03; 8:45 am]

BILLING CODE 4163-18-P